INTERNATIONAL TRADE COMMISSION

[Investigation Nos. 701-TA-516-519 (Final)]

Certain Steel Nails From Korea, Malaysia, Oman, and Taiwan; Termination of Investigations

AGENCY: United States International Trade Commission.

ACTION: Notice.

SUMMARY: On May 20, 2015, the Department of Commerce published notice in the Federal Register of negative final determinations of countervailable subsidies in connection with the subject investigations concerning Korea (80 FR 28966), Malaysia (80 FR 28968), Oman (80 FR 28958), and Taiwan (80 FR 28964). Accordingly, the countervailing duty investigations concerning certain steel nails from Korea, Malaysia, Oman, and Taiwan (Investigation Nos. 701-TA-516-519 (Final)) are terminated.

DATES: Effective Date: May 20, 2015.

FOR FURTHER INFORMATION CONTACT: Fred Ruggles (202-205-3187), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: These investigations are being terminated under authority of title VII of the Tariff Act of 1930 and pursuant to section 207.40(a) of the Commission's Rules of Practice and Procedure (19 CFR 207.40(a)). This notice is published pursuant to section 201.10 of the Commission's rules (19 CFR 201.10).

By order of the Commission.
Issued: June 3, 2015.
Lisa R. Barton,
Secretary to the Commission.

[FR Doc. 2015-14026 Filed 6-8-15; 8:45 am]

BILLING CODE 7020-02-P